FEDERAL COMMUNICATIONS COMMISSION

47 CFR Parts 0 and 15

[ET Docket No. 01-278; FCC 04-98]

Radio Frequency Identification

AGENCY: Federal Communications Commission.

ACTION: Final rule; announcement of effective date.

SUMMARY: The Commission adopted rules which allowed for operation of improved radio frequency identification (RFID) systems in the 433.5-434.5 MHz (“433 MHz”) band. The rule in § 15.240 required Office of Management and Budget approval and the Commission stated in its previous Federal Register publication that it would announce the effective date of that section when approved. This document announces the effective date of § 15.240.

DATES: The amendment to 47 CFR 15.240 published at 69 FR 29459, May 24, 2004, became effective on June 23, 2004.

FOR FURTHER INFORMATION CONTACT: Nancy J. Brooks, (202) 418-2454, Office of Engineering and Technology.

SUPPLEMENTARY INFORMATION: The FCC published a document in the Federal Register 69 FR 29459, May 24, 2004, that sets forth an effective date of June 23, 2004, except for amendment to § 15.240, which contained an information collection requirement that had not been approved by the Office of Management and Budget. The document stated that the Commission will publish a document in the Federal Register announcing the effective date for § 15.240 and the information collection contained therein. On March 18, 2005, the Office of Management and Budget (OMB) approved the information collection requirements contained 47 CFR 15.240 pursuant to OMB Control No. 3060-1079. Accordingly, the information collection requirement contained in this rule became effective on March 18, 2005. The expiration date for the information collection requirement will be March 31, 2008.

Federal Communications Commission.
Marlene H. Dortch,
Secretary.

[FR Doc. 05-8341 Filed 4-26-05; 8:45 am]

BILLING CODE 6712-01-P